DEPARTMENT OF COMMERCE

National Oceanic and Atmospheric Administration

[RTID 0648-XD825]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit (EFP) application contains all of the required information and warrants further consideration. The EFP would allow a federally permitted fishing vessel to fish outside fishery regulations in support of exempted fishing activities. Regulations under the Magnuson-Stevens Fishery Conservation and Management Act require publication of this notification to provide interested parties the opportunity to comment on applications for proposed EFPs.

DATES: Comments must be received on or before April 11, 2024.

ADDRESSES: You may submit written comments by the following method:

• Email: nmfs.gar.efp@noaa.gov. Include in the subject line “Haddock Sink Gillnet Exploratory Fishing”.

All comments received are a part of the public record and will generally be posted for public viewing in https://www.noaa.gov/organization/information-technology/foia-reading-room without change. All personal identifying information (e.g., name, address), confidential business information, or otherwise sensitive information submitted voluntarily by the sender will be publicly accessible. NMFS will accept anonymous comments (enter “anonymous” as the signature if you wish to remain anonymous).

FOR FURTHER INFORMATION CONTACT: Elise Scholl, Fishery Management Specialist, Elise.Scholl@noaa.gov, (978) 281-9189.

SUPPLEMENTARY INFORMATION: This EFP would exempt the participating vessel from the following Federal regulation:

Table 1—Requested Exemption
CFR citation | Regulation | Need for exemption
50 CFR 648.80(a)(3)(iv)(B)(1) | Minimum mesh size for Trip Gillnet Vessels in the Gulf of Maine | To deploy 6-inch (15.24 cm) mesh gillnet gear in Gulf of Maine Regulated Mesh Area.

Table 2—Project Summary
Project title | Haddock sink gillnet fishing
Project Start | April 2024.
Project End | May 31, 2024.
Project objectives | To evaluate the efficacy of 6-inch (15.24 cm) mesh gillnet for haddock without increasing the catch of cod and sublegal sized haddock.
Project location | Gulf of Maine.
Number of vessels | 1.
Number of trips | 12.
Trip duration (days) | 3.
Total number of days | 36.
Gear type(s) | 6-inch (15.24 cm) Gillnet.
Number of tows or sets | 16.
Duration of tows or sets | 24 hours.

Project Narrative

The proposed EFP is a continuation of a project conducting exploratory fishing in the Gulf of Maine (GOM) that mimics the structure of the GOM Sink Gillnet Mesh Exemption originally approved for sectors from fishing years 2010 through 2012. The objective of the sector exemption was to increase haddock catch while avoiding the catch of cod and sublegal sized haddock. In fishing year 2013, we did not approve the exemption due to concerns regarding the status of the GOM haddock stock, which at the time was subject to overfishing and approaching an overfished condition.

In 2019, the Operational Assessment for GOM haddock determined that the haddock stock was not overfished or subject to overfishing, and that spawning stock biomass was above the biomass target. In 2020, the current applicant proposed an EFP using 6-inch (15.24 cm) mesh gillnets to increase haddock catch without an increased catch of cod or sublegal haddock. The goal of the EFP was to collect data that could be used to inform the efficacy of the 6-inch (15.24 cm) mesh gillnet, and possibly lead to a defined geographic area of a future exemption area. We approved this EFP for fishing years 2021-22 and 2022-23. The proposed EFP would be unchanged from prior EFPs and would be the third year of this project.

From the date of issuance through May 31, 2024, the participating vessel would conduct up to 12 trips under the EFP in the GOM Regulated Mesh Area (RMA) during which it would make up to 16 hauls with 6-inch (15.24 cm) mesh gillnet gear. The maximum number of individual nets that could be deployed is 75. Gillnets would be set for a soak of up to 24 hours, and would be actively tended by the vessel (i.e., the vessel would not leave the fishing grounds while nets are deployed).

A northeast fisheries at-sea monitor or observer would be deployed on all groundfish trips taken under the EFP. Allowable discards would be discarded at-sea, while all other species would be retained, landed, and processed per normal commercial fishing procedures. Monitors would document all discards of allocated sub-legal catch.

While on EFP trips, the vessel may also occasionally deploy longline and 6.5-inch (16.51 cm) mesh gillnet gear, in order to generate catch composition data that could be used to compare the catchability of the 6-inch (15.24 cm) mesh gear with other gears used on a normal fishing trip. The gillnet gear would consist of 12 to 24 nets in a single string, while the longline gear would have between 1,000 and 2,400 hooks. All groundfish catch, including both discards and landings, would be deducted from the appropriate sector allocation and the EFP would not authorize catch above the sector allocation.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: March 22, 2024.
Everett Wayne Baxter,
Acting Director, Office of Sustainable Fisheries, National Marine Fisheries Service.

[FR Doc. 2024-06501 Filed 3-26-24; 8:45 am]

BILLING CODE 3510-22-P